DEPARTMENT OF DEFENSE

Department of the Air Force

Notice of Intent To Grant an Exclusive Patent License

AGENCY: Department of the Air Force.

ACTION: Notice.

SUMMARY: Pursuant to the provisions of Part 404 of Title 37, Code of Federal Regulations, which implements Public Law 96-517, as amended, the Department of the Air Force announces its intention to grant Parhelion Labs, Incorporated in the State of California, having a place of business at 1660 S. Amphlett Blvd., Suite 350, San Mateo, California 94402, an exclusive license in any right, title and interest the Air Force has in:

U.S. Patent No. 6,497,718, issued December 24, 2002, entitled “Process for phase-locking human ovulation/menstrual cycles” by Edmond M. Dewan.

DATES: A license for this patent will be granted unless a written objection is received within fifteen (15) days from the date of publication of this Notice.

FOR FURTHER INFORMATION CONTACT: Written objection should be sent to: James M. Skorich, Esq., 2251 Maxwell Ave., SE., 377th ABW/JAN Kirtland AFB NM 87117-5773. Telephone: (505) 846-1542.

Bao-Anh Trinh,
Air Force Federal Register Liaison Officer.

[FR Doc. E8-18815 Filed 8-13-08; 8:45 am]

BILLING CODE 5001-05-P